DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Global Diversity Export Initiative (GDEI) Trade Mission to Panama, Costa Rica and Colombia in Conjunction with the “Opportunities for Women-Owned Businesses in the Americas” Conference—March 10-15, 2024. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone: (202) 482-6397 or email Jeffrey.Odum@trade.gov.

SUPPLEMENTARY INFORMATION: The Following Conditions for Participation Will Be Used for the Mission:

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least 51% U.S. content by value. In the case of a trade association or organization, the applicant must certify that, for each firm or service provider to be represented by the association/organization, the products and/or services the represented firm or service provider seeks to export are either produced in the United States or, if not, marketed under the name of a U.S. firm and have at least 51% U.S. content by value.

A trade association/organization applicant must certify and agree to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission. Balance of company size and location may also be considered during the review process.

Referrals from a political party or partisan political group or any information, including on the application, containing references to political contributions or other partisan political activities will be excluded from the application and will not be considered during the selection process. The sender will be notified of these exclusions. The Department of Commerce will evaluate applications and inform applicants of selection decisions on a rolling basis until the maximum number of participants has been selected.

Definition of Small and Medium-Sized Enterprise

For purposes of assessing participation fees, an applicant is a small and medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Global Diversity Export Initiative (GDEI) Trade Mission to Panama, Costa Rica and Colombia in Conjunction With the “Opportunities for Women-Owned Businesses in the Americas” Conference—March 10-15, 2024

Summary

The United States Department of Commerce, International Trade Administration (ITA), is organizing a Global Diversity Export Initiative (GDEI) Trade Mission to Panama, Costa Rica, and Colombia from March 10-15, 2024, that will include the “Opportunities for Woman-Owned Businesses in the Americas” Conference in Panama City, Panama on March 10-11, 2024. The mission is horizontal, with various industries and sectors represented and will be based on best prospects and growth potential for U.S. companies in Panama, Costa Rica and Colombia.

Recruitment and consideration will be extended to all export-ready U.S. companies, including small businesses, trade associations and other exporting organizations that meet the established criteria for participation in the mission. In keeping with the U.S. Department of Commerce's Equity Action Plan, ITA seeks to improve outreach to and representation of businesses with owners and/or leaders from underserved communities, including through the Global Diversity Export Initiative of the U.S. Commercial Service. This mission will expand access to export opportunities to U.S. small and medium-sized businesses, including those founded, led, operated or owned by women from industries with growing potential in Panama, Costa Rica, and Colombia.

This mission is in alignment with Executive Order 13985 on Advancing Racial Equity and Support for Underserved Communities Through the Federal Government (January 25, 2021) (E.O. 13985), Executive Order 14091 on Further Advancing Racial Equity and Support for Underserved Communities Through the Federal Government (February 22, 2022) (E.O. 14091), Executive Order 14020 on the Establishment of the White House Gender Policy Council (March 11, 2021) (E.O. 14020), and the Global Diversity Export Initiative of the U.S. Commercial Service. For the purposes of the trade mission, ITA adopts the definition of “underserved communities” in E.O. 14020, incorporated into E.O. 14091: “populations sharing a particular characteristic, as well as geographic communities, that have been systematically denied a full opportunity to participate in aspects of economic, social, and civic life, as exemplified by the list in the preceding definition of “equity.” “Equity” is defined as “the consistent and systematic fair, just, and impartial treatment of all individuals, including individuals who belong to underserved communities that have been denied such treatment, such as women and girls; Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.” This trade mission is also designed to be responsive to the priorities stated by Secretary of Commerce Gina Raimondo and outlined in the Equity Action Plan released in April 2022 which aspires to “harness the talents and strengths of all parts of the country, including women, people of color, and others who are too often left behind” including by “[s]trengthen[ing] small businesses in underserved communities by helping them be successful exporters”.

Women own 12 million businesses in the United States, employing more than 10 million workers.¹ According to the U.S. Small Business Administration (citing the 2018 Census Bureau's Annual Business Survey, latest data available), women-owned businesses contributed $2.1 trillion in total sales to the U.S. economy and $388 billion in annual payroll. The 2020 Census Bureau's Annual Business Survey included three top sectors for women-owned employer firms as: (1) healthcare and social assistance (216,000 women-owned employer firms); (2) professional, scientific and technical services (207,000 women-owned employer firms); and (3) retail trade (137,000 women-owned employer firms).²

¹ https://www.whitehouse.gov/briefing-room/statements-releases/2023/03/27/fact-sheet-president-biden-announces-new-resources-to-support-women-small-businesses-owners-continued-commitment-to-supporting-americas-entrepreneurs/.

² https://advocacy.sba.gov/2023/03/21/facts-about-small-business-women-ownership-statistics/.

Despite these promising statistics, women-owned businesses face unique obstacles in accessing overseas markets, including difficulty obtaining financing and lack of knowledge about export opportunities. By including attendance at the “Opportunities for Woman-Owned Businesses in the Americas” Conference in Panama City, Panama on March 10-11, 2024, this mission will assist U.S. small and medium-sized businesses, including those founded, led, operated or owned by women to find partners and begin or expand exports in Panama, Costa Rica and Colombia. Each country benefits from a free trade agreement with the United States.

Trade mission participants will arrive in Panama City, Panama on March 10 to attend the opening reception for the “Opportunities for Woman-Owned Businesses in the Americas” Conference, which is also open to U.S. companies not participating in the trade mission. The Businesses Conference will focus on regional and industry-specific sessions and will gather experts on market entry strategies, logistics, procurement, trade financing, access to capital, and other important topics to assist women business exporters. The registration fee for the business conference is included in the trade mission costs.

On Sunday, March 10, trade mission participants will participate in one-on-one meetings (U.S. diplomats and/or industry specialists from 15 U.S. Embassies from the region will be available), a trade mission briefing, and a networking reception. On Monday, March 11, participants will engage in the business conference that will include a morning plenary session, a networking lunch, afternoon workshops and one-on-one meetings with key service providers and U.S. diplomats and/or industry specialists, information and material on trade-related resources, and an evening networking reception. On Tuesday, March 12, selected participants will engage in business-to-business (B2B) meetings in Panama City or travel to Costa Rica or Colombia to engage in B2B appointments in those markets. B2B meetings will be conducted with pre-screened potential buyers, agents, distributors or joint-venture partners, in the selected city/stop in Panama, and/or Costa Rica, and/or Colombia. The combination of the “Opportunities for Woman-Owned Businesses in the Americas” Conference and the B2B matchmaking opportunities in Panama, Costa Rica, and Colombia will provide participants with substantive information on strategies for entering or expanding their business in Panama, Costa Rica, and Colombia, key contacts with Commercial Service officers and local staff, and networking opportunities to build vital business relationships.

Best Prospects

The mission is horizontal, with various industries and sectors represented, based on best prospects for U.S. companies in Panama, Costa Rica and Colombia. Best prospect sectors include: Agricultural Products; Automotive Parts, Accessories and Service Equipment; Construction Equipment; Cosmetics; Cybersecurity; Defense & Security; Disposable Medical Supplies; eCommerce; Education; Electric Power and Renewable Energy Systems; Information and Communication Technology (ICT); Infrastructure; Medical Devices and Equipment; Oil and Gas Exploration and Production Equipment; Processed Food and Beverages; Solar Energy Products; and Travel and Tourism.

Other Products and Services

Applications from companies exporting products or services within the scope of this mission, but not specifically identified, will be considered and evaluated by the U.S. Department of Commerce. Companies whose products or services do not fit the scope of the mission may contact their local U.S. Commercial Service office to learn about other business development missions and services that may provide more targeted export opportunities. Companies may visit https://www.trade.gov/contact-us to obtain such information. This information also may be found on the website: https://www.trade.gov/.

Proposed Timetable

* Note: The final schedule and potential site visits will depend on the availability of host government and business officials, specific goals of mission participants, and ground transportation.

Saturday, March 09, 2024 | Travel Day/Arrival in Panama City, Panama.
Sunday, March 10, 2024 | Panama. Business Conference. Afternoon: Registration, U.S. Embassy Officer Meetings and Market Briefings. Evening: Networking Reception.
Monday, March 11, 2024 | Panama. Business Conference. Morning: Registration. Plenary Session. Afternoon: U.S. Embassy Officer Meetings and Workshops. Evening: Networking Reception.

B2B Meeting Options

Tuesday-Friday, March 12-15, 2024 | Travel to Business-to-Business Meetings in (up to two markets): Option (A) Panama. Option (B) Costa Rica. Option (C) Colombia.

Participation Requirements

All parties interested in participating in the U.S. Department of Commerce GDEI Trade Mission to Panama, Costa Rica and Colombia must complete and submit an application package for consideration by the U.S. Department of Commerce. All applicants will be evaluated on their ability to meet certain conditions and best satisfy the selection criteria as outlined below.

A minimum of 20 and a maximum of 40 firms and/or trade associations will be selected to participate in the mission on a first come, first served basis.

All selected participants will attend the Business Conference in Panama City and will have the opportunity for B2B meetings in up to two markets (Panama and/or Costa Rica, and/or Colombia). The number of firms that may be selected for B2B meetings in each country is as follows: 20 companies for Panama; 20 companies for Costa Rica; 20 companies for Colombia.

During the registration process, applicants will be able to select the countries for which they would like to receive a brief market assessment. Upon receipt of market assessment reports, they will be able to select up to two stops for B2B meetings.

The trade mission is open to U.S. firms already doing business, and seeking to expand market share, in Panama, Costa Rica and Colombia and to those U.S. firms new to these markets.

Fees and Expenses

After a firm or trade association is selected to participate in the mission, a payment to the Department of Commerce in the form of a participation fee is required. The fees are as follow:

If one stop/country is selected for B2B meetings, the participation fee will be $2,800 for a small and medium-sized enterprises (SME) (see above definition of SMEs) and $4,000 for large firms.

If two stops/countries are selected for B2B meetings, the participation fee will be $3,800 for a small and medium-sized enterprises (SME) (see above definition of SMEs) and $5,000 for large firms.

The mission participation fees above include the “Opportunities for Woman-Owned Businesses in the Americas” Conference registration fee of $500, which covers one participant per firm. Ground transportation to B2B meetings will be provided for trade mission delegation participants if meetings are conducted outside the hotel where the Business Conference will take place.

If and when an applicant is selected to participate in this mission, a payment to the Department of Commerce in the amount of the designated participation fee above is required. Upon notification of acceptance, those selected have five business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that the mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade mission members participate in trade missions and undertake mission-related travel at their own risk. The nature of the security situation in any given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees accordingly, prepare an agenda for virtual activities, and notify the previously selected applicants with the option to opt-in to the new virtual program.

Timeframe for Recruitment and Applications

Mission recruitment will be conducted in an open and public manner, including publication in the Federal Register, posting on the Commerce Department trade mission calendar (https://www.trade.gov/trade-missions) http://www.trade.gov/, the Trade Americas web page (https://www.trade.gov/trade-americas-events) and other internet websites, press releases to the general and trade media, direct mail and broadcast fax, notices by industry trade associations and other multiplier groups, and announcements at industry meetings, symposia, conferences, and trade shows.

Recruitment for the mission will begin immediately and conclude no later than Friday, December 29, 2023. The U.S. Department of Commerce will review applications and make selection decisions on a rolling basis until the maximum of 40 participants are selected. After Friday, December 29, 2023, companies will be considered only if space and scheduling constraints permit.

Contacts

U.S. Trade Americas Team Contact Information

Diego Gattesco, Director/Trade Americas Team Leader, U.S. Commercial Service Wheeling, WV, Email: Diego.Gattesco@trade.gov, Tel: 304-243-5493

Sara E. Hagigh, Senior International Trade Specialist, Multilateral & Strategic Initiatives Team, Office of Western Hemisphere, U.S. Department of Commerce, International Trade Administration, Washington, DC, Email: Sara.Hagigh@trade.gov, Tel: 202-482-5405

Commercial Service Panama Contact Information

Timothy Cannon, Senior Commercial Officer, U.S. Embassy Panama City, Panama, Email: Timothy.Cannon@trade.gov, Tel: (507) 6612-3606

Commercial Service Costa Rica Contact Information

Ryan Hollowell, Senior Commercial Officer, U.S. Embassy San Jose, Costa Rica, Email: Ryan.Hollowell@trade.gov, Tel: (506) 2519-2293

Commercial Service Colombia Contact Information

Lisa White, Commercial Officer, U.S. Embassy Bogota, Colombia, Email: Lisa.White@trade.gov, Tel: (+57) 321-843-6314

Gemal Brangman,
Director, Trade Events Management Task Force.

[FR Doc. 2023-23365 Filed 10-20-23; 8:45 am]

BILLING CODE 3510-DR-P